ENVIRONMENTAL PROTECTION AGENCY

[FRL-7576-7]

Expert Peer Review of Natural Gas Supply Curves and Associated Assumptions as Used in the Integrated Planning Model (IPM); Notification of Panel Meeting

AGENCY: Environmental Protection Agency (EPA).

ACTION: Notice.

SUMMARY: The EPA announces an expert peer review panel meeting on the natural gas supply curves and associated assumptions developed for EPA by ICF Consulting, Inc. for use in EPA applications of ICF's Integrated Planning Model (IPM). In accordance with provisions in EPA's Peer Review Handbook (EPA 100-B-00-001), the meeting is being conducted by a third party EPA contractor, Perrin Quarles Associates, Inc. The meeting of the peer review panel is open to the public. The public may submit written comments for review by EPA up to two weeks after the date of the meeting, and EPA will consider those comments in conjunction with the input from the peer review panel. Time permitting, there may be a limited opportunity for oral comments from the public before the panel at the end of the first day's session. General information about the IPM, the natural gas supply curves and associated assumptions, and the use of IPM by EPA can be found at http://www.epa.gov/airmarkets/epa-ipm/.

DATES: The peer review will be held in two sessions. The first, on October 23, 2003, will begin at 9 a.m. and conclude no later than 6 p.m. (eastern time), and the second, on October 24, 2003, will begin at 9 a.m. and conclude no later than 2 p.m. (eastern time).

ADDRESSES: The peer review will be held at the Phoenix Park Hotel, 520 North Capitol St., NW., Washington, DC. Written comments can be sent by mail to Mr. Brian Menard, Perrin Quarles Associates, Inc., 675 Peter Jefferson Parkway, Suite 200, Charlottesville, VA 22911 or by email to bpm@pqa.com.

FOR FURTHER INFORMATION CONTACT: Any member of the public who wishes to address the peer review panel during the public input period at the end of the first day's session should contact Mr. Brian Menard, Perrin Quarles Associates, Inc., at telephone: (434) 979-3700, or via e-mail at: bpm@pqa.com prior to the meeting. Written comments (preferably via email) should be sent to Mr. Menard within two weeks after the meeting. EPA will consider any comments received in that timeframe. Questions about the IPM and EPA's use of the IPM should be directed to Mr. Elliot Lieberman, EPA, at telephone/voice mail: (202) 564-9136, or via e-mail at: Lieberman.Elliot@epa.gov.

Dated: October 14, 2003.
Sam Napolitano,
Acting Division Director, Clean Air Markets Division, Office of Atmospheric Programs.

[FR Doc. 03-26539 Filed 10-20-03; 8:45 am]

BILLING CODE 6560-50-P